DEPARTMENT OF HOUSING AND URBAN DEVELOPMENT

[Docket No. FR-7060-N-08]

60-Day Notice of Proposed Information Collection: Evaluation of the Supportive Services Demonstration; OMB Control No.: 2528-0321

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: March 6, 2023.

ADDRESSES: Interested persons are invited to submit comments regarding this proposal. Comments should refer to the proposal by name and/or OMB Control Number and should be sent to: Anna P. Guido, Reports Management Officer, REE, Department of Housing and Urban Development, 451 7th Street SW, Room 4176, Washington, DC 20410-5000; telephone 202-402-5534 (this is not a toll-free number) or email at Anna.P.Guido@hud.gov for a copy of the proposed forms or other available information. HUD welcomes and is prepared to receive calls from individuals who are deaf or hard of hearing, as well as individuals with speech or communication disabilities. To learn more about how to make an accessible telephone call, please visit https://www.fcc.gov/consumers/guides/telecommunications-relay-service-trs.

FOR FURTHER INFORMATION CONTACT: Anna P. Guido, Reports Management Officer, REE, Department of Housing and Urban Development, 451 7th Street SW, Washington, DC 20410; email Anna P. Guido at Anna.P.Guido@hud.gov or telephone 202-402-5535. This is not a toll-free number. HUD welcomes and is prepared to receive calls from individuals who are deaf or hard of hearing, as well as individuals with speech or communication disabilities. To learn more about how to make an accessible telephone call, please visit https://www.fcc.gov/consumers/guides/telecommunications-relay-service-trs.

Copies of available documents submitted to OMB may be obtained from Ms. Guido.

SUPPLEMENTARY INFORMATION: This notice informs the public that HUD is seeking approval from OMB for the information collection described in Section A.

A. Overview of Information Collection

Title of Information Collection: Evaluation of the Supportive Services Demonstration.

OMB Approval Number: 2528-0321.

Type of Request: Revision.

Form Number: NA.

Description of the need for the information and proposed use: The U.S. Department of Housing and Urban Development (HUD) has contracted with Abt Associates Inc. and L&M Policy Research to continue conducting an evaluation of HUD's Supportive Services Demonstration (demonstration, or SSD), which was extended by Congress for an additional two years in the Consolidated Appropriations Act, 2021. The demonstration tests the Integrated Wellness in Supportive Housing (IWISH) model and is designed to learn whether structured health and wellness support can help older adults living in affordable housing successfully age in place. The demonstration funds a full-time Resident Wellness Director and part-time Wellness Nurse to work in HUD-assisted housing developments that either predominantly or exclusively serve households headed by people aged 62 and over. The demonstration is testing whether IWISH will affect unplanned hospitalizations and the use of other types of acute care with high healthcare costs, the use of primary and nonacute care, the length of stay in housing, transitions to long-term care facilities, and mortality. Eligible HUD-assisted properties applied for the demonstration and were randomly assigned to one of three groups:

1. A “treatment group” that received grant funding to hire a Resident Wellness Director and Wellness Nurse and implement the SSD model (40 properties).

2. An “active control” group that did not receive grant funding but received a stipend to participate in the evaluation (40 properties).

3. A “passive control” group that received neither grant funding nor a stipend (44 properties).

The random assignment permits an evaluation that quantifies the impact of the SSD model by comparing outcomes at the 40 treatment group properties to outcomes at the 84 properties in the active and passive control groups.

Under contract with HUD's Office of Policy Development and Research, Abt Associates Inc. has been conducting a two-part evaluation: a process study to describe the implementation of the demonstration, and an impact study to measure the effect of the SSD model on residents' use of healthcare services and housing stability. The first phase of the demonstration ran from October 2017-October 2020. The Continuing Appropriations Act, 2021 and Other Extensions Act and the Consolidated Appropriations Act, 2021 extended the demonstration for an additional two years. Abt will continue to evaluate the demonstration through September 2026.

During the first phase of the evaluation, Abt Associates Inc. received OMB approval for the following primary data collection activities:

• Questionnaires with staff from the treatment and active control properties.

• Focus groups with residents of treatment and active control properties and caregivers of residents of the treatment properties.

• Interviews with Resident Wellness Directors and Wellness Nurses at the treatment group properties.

• Interviews with Service Coordinators at the active control group properties.

• Interviews with representatives of organizations that own or manage the active control or treatment properties.

This request is for an additional round of data collection for the activities listed below:

• Interviews with Resident Wellness Directors and Wellness Nurses at each of the 40 treatment properties.

• Interviews with property owners or managers at the 40 treatment properties and 40 active control properties.

• Interviews with up to 150 residents of 10 of the treatment properties.

The purpose of these activities is to collect data from demonstration staff, property owners and managers, and residents about the continued implementation of the demonstration, including the model's strengths and weakness, and how resident wellness services and activities compare across treatment and control properties. The evaluation will culminate in a comprehensive report that will be made publicly available.

Respondents: (i.e., affected public): Resident Wellness Directors, Wellness Nurses, Property owners and managers, and HUD-assisted residents (aged 62 and over).

Estimated Number of Respondents: Up to 54 Resident Wellness Directors, 44 Wellness Nurses, 40 property owners and managers of treatment properties, 40 property owners and managers of active control properties, and 150 HUD-assisted residents aged 62 and older living in treatment properties.

Frequency of Response: Once for all interviews.

Average Hours per Response: Interviews with Resident Wellness Directors and Wellness Nurses will take an estimated take 3 hours each, interviews with property owners and managers will take an estimated 2 hours each, resident interviews conducted in the resident's preferred language an estimated 1.5 hours each, and resident interviews conducted via on-demand interpretation will take an estimated 3 hours each.

Total Estimated Burdens:

Estimated Hour and Cost Burden of Information Collection
Information collection | Number of respondents | Frequency of response | Responses per annum | Burden hour per response | Annual burden hour | Hourly cost per response | Annual cost
Interviews with Resident Wellness Directors | 54 | 1 | 54 | 3 | 162 | ¹ $40.00 | $6,480.00
Interviews with Wellness Nurses | 44 | 1 | 44 | 3 | 132 | ² 63.99 | 8,446.68
Interviews with Treatment Group Property Owners and Managers | 40 | 1 | 40 | 2 | 80 | ³ 51.23 | 4,098.40
Interviews with Active Control Property Owners and Managers | 40 | 1 | 40 | 2 | 80 | ³ 51.23 | 4,098.40
Resident Interviews conducted in core languages | 120 | 1 | 120 | 1.5 | 180 | ⁴ 9.63 | 1,733.40
Resident Interviews conducted via on demand interpretation | 30 | 1 | 30 | 3 | 90 | ⁴ 9.63 | 866.70
Total | 328 |  |  |  | 724 |  | 25,723.58
¹ Estimated cost burden for Resident Wellness Directors participating in interviews is based on the average hourly wage for private industry workers by industry sector. U.S. Bureau of Labor Statistics, June 2022, for the healthcare and social assistance industry ($40.00), accessed September 26, 2022 at Table 4. Private industry workers by occupational and industry group—2022 Q02 Results (bls.gov).
² Estimated cost burden for property Wellness Nurses participating in interview is based on the average hourly wage for private industry workers by industry sector. U.S. Bureau of Labor Statistics, June 2022, for Registered Nurse Occupations ($63.99), accessed September 26, 2022 at Table 4. Private industry workers by occupational and industry group—2022 Q02 Results (bls.gov).
³ Estimated cost burden for property owners and managers is a blended rate based on average hourly and weekly earnings of all employees on private nonfarm payrolls by industry sector, seasonally adjusted. U.S. Bureau of Labor Statistics, June 2022 for all private industry workers ($38.91) and the hourly cost for management, professional, and related workers ($63.55). Accessed September 26, 2022: Table 4. Private industry workers by occupational and industry group—2022 Q02 Results (bls.gov).
⁴ To estimate hourly cost for the residents, we used average monthly Social Security benefit for retired works in June 2022, (accessed in September 26, 2022: https://www.ssa.gov/news/press/factsheets/basicfact-alt.pdf) which was $1,669 and converted this into an hourly rate of $9.63 per hour (by multiplying $1,669 by 12 months and dividing by 2,080 hours).

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected, and

(4) Ways to minimize the burden of the collection of information on those who are to respond; including through the use of appropriate automated collection techniques or other forms of information technology, e.g., permitting electronic submission of responses. HUD encourages interested parties to submit comment in response to these questions.

C. Authority

Section 3507 of the Paperwork Reduction Act of 1995, 44 U.S.C. chapter 35 and title 42 U.S.C. 5424 note, title 13 U.S.C. 8(b), and title 12, U.S.C., section 1701z-

Solomon J. Greene,
Principle Deputy Assistant Secretary for Policy Development and Research.

[FR Doc. 2022-28575 Filed 1-3-23; 8:45 am]

BILLING CODE 4210-67-P